DEPARTMENT OF HEALTH AND HUMAN SERVICES

Office of the Secretary

[Document Identifier: 0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate below or any other aspect of the ICR.

DATES: Comments on the ICR must be received on or before April 17, 2017.

ADDRESSES: Submit your comments to Information.CollectionClearance@hhs.gov or by calling (202) 690-5683.

SUPPLEMENTARY INFORMATION: When submitting comments or requesting information, please include the document identifier 0990-New-60D for reference.

Information Collection Request Title: National Council for Behavioral Health's Information Technology Survey.

Abstract: The Office of the National Coordinator for Health IT (ONC), in coordination with Substance Abuse and Mental Health Services Administration (SAMHSA) seeks to conduct a survey annually for the next three years to examine trends in the adoption and use of health IT as well as interoperability across community behavioral health care settings. Data from the survey will help ONC and SAMSHA monitor progress and enhance programs and policy to improve the use of health IT and expand interoperability across these settings. In 2015, ONC outlined a strategy by which both private and public stakeholders would work together to improve interoperability. This strategy called for measuring and reporting on the state of interoperability across the care continuum, including for behavioral health care providers; however, there are no recent national data available for this care setting. Addressing this gap is critical in order to also determine these providers' readiness to serve as partners in delivery system reform efforts that are underway and that will be expanded with the implementation of Medicare Access and CHIP Reauthorization Act of 2015 (MACRA). Although behavioral health care providers won't be participating in the MACRA initiative at the outset, the Secretary of Health and Human Services may include behavioral health providers, such as psychologists and social workers to participate in value-based payment initiatives such as the Merit-Based Incentive Payment System (MIPs) in the future.

Likely Respondents: The respondents will include mid-level and executive level staff (IT Directors, CIO, and CEOs) of behavioral healthcare organizations that are involved in the management and maintenance of their organization's health IT infrastructure.

The total annual burden hours estimated for this ICR are summarized in the table below.

Total Estimated Annualized Burden—Hours
Form name | Number of respondents | Number of responses annually per respondent | Total responses per year | Average hours per response | Total burden hours
National Council for Behavioral Health's Information Technology Survey | 2,700 | 1 | 2,700 | 20/60 | 900

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2017-03087 Filed 2-15-17; 8:45 am]

BILLING CODE 4150-45-P